DEPARTMENT OF COMMERCE

International Trade Administration

North American Free Trade Agreement (NAFTA), Article 1904 Binational Panel Reviews: Corrected Notice of Stay of Panel Review

AGENCY: NAFTA Secretariat, United States Section, International Trade Administration, Department of Commerce.

ACTION: Corrected Notice of Stay of the Determination Under Section 129(a)(4) of the Uruguay Round Agreements Act made by the International Trade Commission, respecting Softwood Lumber Products from Canada (Secretariat File No. USA-CDA-2005-1904-03).

SUMMARY: Pursuant to the Notice of Consent Motion to Stay Panel Proceedings by the complainants, the panel review is stayed pending the outcome of the ongoing Extraordinary Challenge Committee proceeding. A panel has not been appointed to this panel review. This panel review is stayed as of March 22, 2005. The previous notice is withdrawn.

FOR FURTHER INFORMATION CONTACT: Caratina L. Alston, United States Secretary, NAFTA Secretariat, Suite 2061, 14th and Constitution Avenue, Washington, DC 20230, (202) 482-5438.

SUPPLEMENTARY INFORMATION: Chapter 19 of the North American Free-Trade Agreement (“Agreement”) establishes a mechanism to replace domestic judicial review of final determinations in antidumping and countervailing duty cases involving imports from a NAFTA country with review by independent binational panels. When a Request for Panel Review is filed, a panel is established to act in place of national courts to review expeditiously the final determination to determine whether it conforms with the antidumping or countervailing duty law of the country that made the determination.

Under Article 1904 of the Agreement, which came into force on January 1, 1994, the Government of the United States, the Government of Canada and the Government of Mexico established Rules of Procedure for Article 1904 Binational Panel Reviews (“Rules”). These Rules were published in the Federal Register on February 23, 1994 (59 FR 8686). The panel review in this matter was requested and stayed pursuant to these Rules. The previous notice of stay is withdrawn.

Dated: April 12, 2005.
Caratina L. Alston,
United States Secretary, NAFTA Secretariat.

[FR Doc. E5-1801 Filed 4-15-05; 8:45 am]

BILLING CODE 3510-P